DEPARTMENT OF TRANSPORTATION

Federal Aviation Administration

[Docket No. FAA-2026-1915]

Agency Information Collection Activities: Requests for Comments; Clearance of Renewed Approval of Information Collection: Experimental Aircraft: Letters of Deviation Authority (LODA)

AGENCY: Federal Aviation Administration (FAA), DOT.

ACTION: Notice and request for comments.

SUMMARY: In accordance with the Paperwork Reduction Act of 1995, FAA invites public comments about our intention to request Office of Management and Budget (OMB) approval. The collection involves the submission of an application to obtain a Letter of Deviation Authority to permit flight instruction for compensation or hire aboard experimental-category aircraft under 14 CFR 91.319. The information to be collected will be used to determine whether such flight instruction can be conducted safely.

DATES: Written comments should be submitted by April 24, 2026.

ADDRESSES: Please send written comments:

By Electronic Docket: www.regulations.gov (Enter docket number into search field).

By mail: Christopher Morris, 800 Independence Avenue SW, Washington, DC 20591.

By email: chris.morris@faa.gov.

FOR FURTHER INFORMATION CONTACT: Jabari Raphael by email at: Jabari.Raphael@faa.gov; phone: 202-267-1088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0812.

Title: Experimental Aircraft: Letters of Deviation Authority (LODA).

Form Numbers: There is no official form involved, but an applicant must submit a request for deviation authority in a form and manner acceptable to the Administrator at least 60 days before the date of intended operations. A request for deviation authority must contain a complete description of the proposed operation. Further application guidance can be found in Advisory Circular 91-94, which may be retrieved from https://www.faa.gov/regulations_policies/advisory_circulars/index.cfm/go/document.information/documentID/1043235.

Type of Review: Renewal.

Background: In 2004, the FAA published a final rule requiring operators of experimental aircraft to apply for a Letter of Deviation Authority (LODA) to conduct operations for compensation or hire under 14 CFR 19.319. See 69 FR 44771 (July 27, 2004). When publishing the 2004 final rule, the FAA inadvertently omitted its submission to the OMB detailing the information collection burden under the Paperwork Reduction Act (PRA). See 69 FR at 44858 (explaining estimated PRA burden and OMB compliance requirements). The FAA corrected this technical oversight in 2022; see 87 FR 8335 (February 14, 2022), and the OMB approved the request as a standalone collection with control number 2120-0812. The FAA now seeks to renew that collection to enable certificated flight instructors to request permission to offer training for compensation or hire in experimental-category aircraft.

Respondents: 355 certificated flight instructors. There are approximately 177 active LODA holders for operations under 14 CFR 91.319, and the FAA anticipates approximately 170 new applications per year.

Frequency: As needed. The duration of a LODA issued under § 91.319 is four years.

Estimated Average Burden per Response: 15 hours.

Estimated Total Annual Burden: 2,250 hours.

Issued in Washington, DC on February 19, 2026.
D.C. Morris,
Aviation Safety Analyst, Flight Standards Service, General Aviation and Commercial Division.

[FR Doc. 2026-03491 Filed 2-20-26; 8:45 am]

BILLING CODE 4910-13-P